DEPARTMENT OF THE INTERIOR

Bureau of Land Management

[BLM_HQ_FRN_MO45169797]

Notice of Availability of the Draft Programmatic Environmental Impact Statement for Approval of Herbicide Active Ingredients for Use on Public Lands

AGENCY: Bureau of Land Management, Interior.

ACTION: Notice of availability.

SUMMARY: In compliance with the National Environmental Policy Act of 1969, as amended, and the Federal Land Policy and Management Act of 1976, as amended, the Bureau of Land Management (BLM) announces the availability of the Draft Programmatic Environmental Impact Statement (EIS) for the Approval of Herbicide Active Ingredients for Use on Public Lands.

DATES: To afford the BLM the opportunity to consider comments in the Final EIS, please ensure that the BLM receives your comments within 45 days following the date the Environmental Protection Agency (EPA) publishes its Notice of Availability (NOA) of the Draft EIS in the Federal Register. The EPA usually publishes its NOAs on Fridays.

ADDRESSES: The Draft EIS is available for review on the BLM ePlanning project website at https://go.usa.gov/xtk6a.

Written comments related to the Herbicide Approval EIS may be submitted by any of the following methods:

• ePlanning Website: https://go.usa.gov/xtk6a.

• Email: BLM_Herbicide_EIS@blm.gov.

• Mail: Seth Flanigan—Project Manager, HQ-220, 1387 South Vinnell Way, Boise, ID 83709.

wDocuments pertinent to this proposal may be examined online at the ePlanning website.

FOR FURTHER INFORMATION CONTACT: Seth Flanigan, Project Manager, telephone: 208-373-4094; email: sflanigan@blm.gov. Individuals in the United States who are deaf, deafblind, hard of hearing, or have a speech disability may dial 711 (TTY, TDD, or TeleBraille) to access telecommunications relay services for contacting Mr. Flanigan. Individuals outside the United States should use the relay services offered within their country to make international calls to the point-of-contact in the United States.

SUPPLEMENTARY INFORMATION: This document provides notice that the BLM has prepared a Draft Programmatic EIS for a review of active ingredients that may be approved for use in vegetation treatments on BLM-managed public lands, announces the beginning of the associated public review process, and seeks public input regarding the assessment and disclosure of impacts associated with this action.

Purpose and Need for the Proposed Action

The BLM's purpose and need is to improve the effectiveness of its invasive plant management efforts by allowing the use of EPA-registered active ingredients not currently authorized for use on BLM public lands. Approving additional active ingredients would diversify the BLM's herbicide treatment options and help meet the purposes that were first identified in the 2007 and 2016 Programmatic EISs related to vegetation treatments, which are to make herbicides available for vegetation treatment on public lands and to describe the stipulations that apply to their use.

Preliminary Proposed Action and Alternatives

The BLM proposes to approve several herbicide active ingredients, including aminocyclopyrachlor, clethodim, fluozifop-p-butyl, flumioxazin, imazamox, indaziflam, and oryzalin, for use in vegetation treatments on public lands. These active ingredients are registered by the EPA. In an effort to approve any of these active ingredients, the BLM will adopt and rely on Human Health and Ecological Risk Assessments prepared by the U.S. Forest Service.

Schedule for the Decision-Making Process

The BLM anticipates releasing a Final EIS in August 2023 and anticipates issuing a Record of Decision in September 2023.

Responsible Official

Assistant Director for Resources and Planning.

Nature of Decision To Be Made

Through this process, the BLM will decide whether to approve the herbicide active ingredients identified earlier for use on BLM-managed public lands. This decision will be based on the best available science and current needs for vegetation management. Any authorization to apply any of these active ingredients at a particular site will be made through a separate, site-specific decision and so is not within the scope of the programmatic EIS or potential decision described in this notice.

Public Comment Process

The BLM will host a virtual public meeting during the public comment period. The date, time, and virtual access information for this meeting is provided on the BLM website at: https://go.usa.gov/xtk6a.

The BLM will continue to consult with Indian Tribal Nations and Alaska Native corporations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10.)

Brian St. George,
Acting Assistant Director, Resources and Planning.

[FR Doc. 2023-08240 Filed 4-20-23; 8:45 am]

BILLING CODE 4331-27-P